DEPARTMENT OF HOMELAND SECURITY

Coast Guard

33 CFR Part 100

[Docket No. USCG-2017-0454]

Special Local Regulation; Marine Events; Annual Bayview Mackinac Race

AGENCY: Coast Guard, DHS.

ACTION: Notice of enforcement of regulation.

SUMMARY: The Coast Guard will enforce the special local regulation for the annual Bayview Mackinac Race, from 10 a.m. to noon on July 22, 2017. This special local regulation is necessary to safely control vessel movements in the vicinity of the race and provide for the safety of the general boating public and commercial shipping. During this period, no person or vessel may enter the regulated area without the permission of the Coast Guard Patrol Commander (PATCOM).

DATES: The regulation in 33 CFR 100.902 will be enforced from 10 a.m. until noon on July 22, 2017.

FOR FURTHER INFORMATION CONTACT: If you have questions on this document, call or email Lieutenant Matthew Stroebel, Waterway Management Branch, Ninth Coast Guard District, 1240 East 9th Street, Cleveland, OH at (216) 902-6060.

SUPPLEMENTARY INFORMATION: The Coast Guard will enforce the special local regulation for the Annual Bayview Mackinac Race found in 33 CFR 100.902 from 10 a.m. until noon on July 22, 2017. This Notice of Enforcement applies to all U.S. navigable waters of the Black River, St. Clair River, and lower Lake Huron, bound by a line starting at latitude 042°58′47″ N., longitude 082°26′0″ W.; then easterly to latitude 042°58′24″ N., longitude 082°24′47″ W.; then northward along the International Boundary to latitude 043°02′48″ N., longitude 082°23′47″ W.; then westerly to the shoreline at approximate location latitude 043°02′48″ N., longitude 082°26′48″ W.; then southward along the U.S. shoreline to latitude 042°58′54″ N., longitude 082°26′01″ W.; then back to the beginning [DATUM: NAD 83].

In order to ensure the safety of spectators and participating vessels, the Coast Guard will patrol the race area under the direction of a designated Coast Guard Patrol Commander (PATCOM). Vessels desiring to transit the regulated area may do so only with prior approval of the PATCOM and when so directed by that officer. The PATCOM may be contacted on Channel 16 (156.8 MHZ) by the call sign “Coast Guard Patrol Commander.” Vessels, permitted to transit the regulated area, will operate at no wake speed and in a manner which will not endanger participants in the event or any other craft. The rules contained above shall not apply to participants in the event or vessels of the patrol operating in the performance of their assigned duties.

This document is issued under the authority of 33 CFR 100.902 and 5 U.S.C. 552(a). If the District Commander, Captain of the Port or PATCOM determines that the regulated area need not be enforced for the full duration stated in this notice, he or she may use a Broadcast Notice to Mariners to grant general permission to enter the regulated area.

Dated: June 15, 2017.
N.A. Bartolotta,
Captain, U.S. Coast Guard, Commander, Ninth Coast Guard District, Acting.

[FR Doc. 2017-14605 Filed 7-11-17; 8:45 am]

BILLING CODE 9110-04-P